DEPARTMENT OF HEALTH AND HUMAN SERVICES

National Institutes of Health

State-of-the-Science Conference on Endoscopic Retrograde; Cholangiopancreatography (ERCP) for Diagnosis and Therapy

Notice is hereby given of the National Institutes of Health (NIH) State-of-the-Science Conference on “Endoscopic Retrograde Cholangiopancreatography (ERCP) for Diagnosis and Therapy,” which will be held January 14-16, 2002, in the NIH's Natcher Conference Center, 45 Center Drive, Bethesda, Maryland 20892. The conference begins at 8:30 am on January 14 and 15, at 9 am on January 16, and is open to the public.

ERCP is a procedure physicians use to diagnose and treat problems in the liver, gallbladder, bile ducts, and pancreas. It combines the use of X-rays and an endoscope, a long, flexible, lighted tube. ERCP first came into use about 30 years ago and has been applied to the diagnosis and management of a variety of gastrointestinal disorders. However, the value of ERCP relative to other means for diagnosing and treating these diseases has not been firmly established.

The purpose of the conference is to examine the current state of knowledge regarding the use of ERCP for diagnosis and therapy so that health care providers and the general public can make informed decisions about this important public health issue.

During the first day-and-a-half of the conference, experts will present the latest ERCP research findings to an independent non-Federal panel. After weighing all of the scientific evidence, the panel will draft a statement that will address the following key questions:

• What is the role of ERCP in gallstone disease?

• What is the role of ERCP in pancreatic and biliary malignancy?

• What is the role of ERCP in pancreatitis?

• What is the role of ERCP in abdominal pain of possible pancreatic or biliary origin?

• What are the factors determining adverse events or success?

• What future research directions are needed?

On the final day of the conference, the panel's draft statement will be read in public, at which time members of the public are invited to offer comments on the draft.

The primary sponsors of this meeting are the National Institute of Diabetes and Digestive and Kidney Diseases (NIDDK) and the NIH Office of Medical Applications of Research (OMAR). Cosponsors include the National Cancer Institute (NCI) and the U.S. Food and Drug Administration (FDA).

Advance information about the conference and conference registration materials may be obtained from Prospect Associates of Silver Spring, Maryland, by calling (301) 592-3320 or by e-mail ercp@prospectassoc.com. Prospect Associates' address is 10720 Columbia Pike, Suite 500, Silver Spring, Maryland 20901-4437. A conference agenda and registration information are also available on the NIH Consensus Program Web site at http://consensus.nih.gov.

Dated: September 12, 2001.
Ruth L. Kirschstein,
Acting Director, NIH.

[FR Doc. 01-23294 Filed 9-18-01; 8:45 am]

BILLING CODE 4140-01-M